DEPARTMENT OF EDUCATION

Promising and Practical Strategies to Increase Postsecondary Success

AGENCY: Department of Education.

ACTION: Request for Information (RFI); Promising and Practical Strategies to Increase Postsecondary Success.

SUMMARY: The Secretary of Education (Secretary) invites institutions of higher education (IHEs), non-profit organizations, States, systems of higher education, adult education providers, researchers, and institutional faculty and staff, or consortia of such entities, to provide the Department of Education (Department) with information about promising and practical strategies, practices, programs, and activities (promising and practical strategies) that have improved rates of postsecondary success, transfer, and graduation. The Department believes this information will be of interest to others in situations similar to those described in the submissions, and useful during future deliberations, possibly including discussions concerning improvements to the Higher Education Act of 1965, as amended (HEA), and other legislative proposals to the Congress. We are most interested in obtaining information about strategies that emphasize the quality of what students learn and timely or accelerated attainment of postsecondary degrees or certificates, including industry-recognized credentials that lead to improved learning and employment outcomes. Information provided in response to this RFI will be posted on the Department's postsecondary completion Web site (Postsecondary Completion Web site) in a form that will allow information about promising and practical strategies to be shared, commented on, and discussed by interested parties, including employees of IHEs, State officials, students, and members of the general public.

DATES: Responses to this RFI may be submitted at any time after the publication of this notice, but in order for a response to be considered in the first round of reviews, it should be submitted by April 30, 2012. We will review and post responses received after April 30, 2012 on a regular basis.

ADDRESSES: Provide any submission related to this RFI to the following email address: collegecompletion@ed.gov. Alternatively, mail or deliver submissions to David Soo, Office of Postsecondary Education, U.S. Department of Education, 1990 K Street NW., Washington, DC 20006.

FOR FURTHER INFORMATION CONTACT: David Soo, (202) 502-7742, david.soo@ed.gov.

If you use a telecommunications device for the deaf (TDD), call the Federal Relay Service (FRS), toll free, at 1-(800) 877-8339. Individuals with disabilities can obtain this document in an accessible format (e.g. braille, large print, audiotape, or compact disc) by contacting Warren Farr at (202) 377-4380 or warren.farr@ed.gov.

SUPPLEMENTARY INFORMATION:

Background

In February 2009, President Obama established a goal for the United States to regain, by 2020, its position as the nation with the highest percentage of its population holding postsecondary degrees and credentials. The Secretary is interested in collecting and making available to the public information on promising and practical strategies that can help educational institutions, States, non-profit organizations, and other entities contribute to achieving this goal.

The Secretary is particularly interested in information about promising and practical strategies that IHEs, States, non-profit organizations, or other entities have carried out and that could be replicated and/or scaled with the goal of helping IHEs and States more effectively contribute to meeting the degree attainment goal set by the President and to improving student success generally. In addition to descriptions of these strategies, we are interested in receiving information about the factors perceived as most important to a strategy's successful implementation, the evidence that led the respondent to determine the importance of such factors, and the issues that the respondent believes would need to be addressed in order to encourage successful replication elsewhere.

The Secretary will establish the Postsecondary Completion Web site to serve as an online resource that makes publicly available the information submitted in response to this RFI. While the Department intends to review submissions made pursuant to this RFI prior to posting them on the Postsecondary Completion Web site, it will not be responsible for and will not certify the accuracy of any of the information or claims contained in these submissions. The Department will post a disclaimer to this effect on the Postsecondary Completion Web site. The individual or entity responsible for providing the Department with a submission will remain responsible for the accuracy of the information in the submission.

Once the Department establishes the Postsecondary Completion Web site and posts the information it receives in response to this RFI, the Secretary intends to publish a second notice in the Federal Register to announce the availability of this information and to invite feedback about the extent to which the strategies and ideas presented might be applicable to different institutions in different contexts, and what difficulties might arise in trying to implement them. The notice will again state that the Department will not be responsible for and will not certify the accuracy of any of the information or claims contained in the submissions. Finally, the Secretary will establish an internal process for the continuous improvement, updating, and augmentation of the information made available on the Postsecondary Completion Web site.

This RFI is issued under the authority of the Department of Education Organization Act (DEOA), 20 U.S.C. 3402(4), by which the Secretary is authorized to promote improvements in the quality and usefulness of education through federally supported research, evaluation, and sharing of information.

Guidance for Submitting Documents: Respondents to this RFI should provide submissions attached to an electronic mail message sent to the email address provided in the ADDRESSES section of this notice. To help ensure accessibility to all interested parties, we request that all submissions comply with the requirements of section 508 of the Rehabilitation Act of 1973, or be submitted in an electronic format that can be made accessible, such as Microsoft Word. We will accept submissions in any electronic or written form provided, but submissions in forms that are not Section 508 compliant and not accessible will not be posted online. Instead, we will index these submissions and make them available in an accessible format upon request. We ask that each respondent include the name and address of his or her institution, consortium, or affiliation, if any, and the name, title, mailing and email addresses, and telephone number of a contact person for his or her institution or consortium or affiliation, if any. We also ask that each submission begin with a brief one-paragraph abstract that provides an overview of the information discussed therein.

The submission should include contact information (name, title, phone number, and email address) for an officer of the institution or an official of the submitting entity who is authorized to approve the submission. The Department will contact the officer to confirm authorization for the submission.

If the submission is from a consortium of institutions, we ask that the respondent identify all members of the consortium but provide only the name of one contact person for the consortium. We also ask that the submission include contact information for the consortium's executive director so that we can confirm authorization for the submission.

Request for Information

Through this RFI, we seek to collect information on promising and practical strategies that IHEs, States, or other entities have used with the goal of helping improve rates of postsecondary success, transfer, and graduation.

At this time, we seek the assistance of IHEs, non-profit organizations, States, systems of higher education, adult education providers, researchers, and institutional faculty and staff who can offer information about promising and practical strategies that they have implemented, with or without Federal support, and that they believe have made measurable contributions to accelerated attainment of postsecondary degrees or certificates, including industry-recognized-credentials that lead to improved learning and employment outcomes.

When submitting information about a promising and practical strategy in response to this RFI, we request that respondents demonstrate how the promising and practical strategy is supported by data on outcomes. If a strategy described in a submission does not have extensive outcome data, the respondent should submit evidence that the proposed strategy, or one similar to it, has been attempted previously, even if on a limited scale or in a limited setting, and yielded promising results. We are particularly interested in strategies, practices, programs, or activities supported by outcome data or for which evaluations have been conducted that can support any conclusions the respondent makes about the strategies described. We are also interested in receiving information about the costs of implementing the promising and practical strategies, both overall and on a per-participant basis.

We note that previous efforts to improve outcomes from postsecondary institutions have included improved student support services, early college and middle college programs, successful remediation programs, open educational resources (that is, resources that are made freely available to students as a substitute for commercial, proprietary learning materials), distance and tele-presence courses, pay-for-performance scholarships and financial assistance, nontraditional course schedules and sequences, and peer support. We invite respondents to this RFI to provide current information on the implementation of these strategies and any other promising and practical strategy that they believe has helped to improve postsecondary success, transfer, and graduation. Specifically, we are interested in receiving documents and reports that include the following information:

• A detailed description of the promising and practical strategy:

○ Clear descriptions of the college completion obstacle addressed, including the dimensions of the problems or obstacles targeted by the intervention.

○ The theory of action that provides the basis for the promising and practical strategy.

○ A history of how the promising and practical strategy was developed.

○ A description of the way submitters or others measured the outcomes of the promising and practical strategy, and of any evaluations of the strategy, where available, including references to published or related studies and links to the relevant data or evaluation. In addition, respondents should discuss any factor or factors that made measuring success difficult and how they addressed those factors.

• A discussion of any difficulties or challenges that arose during the implementation of the promising and practical strategy and of any adjustments that the institution or organization made in response to those challenges.

• A description of the factor or factors the respondent believes were most important to the success of the promising and practical strategy. This could include the participation of a particular individual in the implementation of the strategy or some other reason that goes beyond the design of the activity undertaken.

• A description of the elements of the promising and practical strategy that the respondent believes did not work, including a discussion of why the respondent believes an element did not work and what the respondent would do to change the activity in question in the future.

• Suggestions about how other institutions might best replicate the promising and practical strategy and what potential concerns could make replication difficult.

• Detailed discussion of any Federal regulatory or statutory requirements or other laws, rules, or regulations that made successfully implementing the promising and practical strategy easier or more difficult.

This list of items we invite for submission is illustrative only; respondents may also address other issues that they believe are appropriate to the promising and practical strategies they describe.

Rights to Materials Submitted

By submitting material (e.g., descriptions of promising and practical strategies or data supporting strategies) in response to this RFI, the respondent is agreeing to grant the Department a worldwide, royalty-free, perpetual, irrevocable, non-exclusive license to use the material and post it on the Postsecondary Completion Web site. Further, the respondent agrees that it owns, has a valid license, or is otherwise authorized to provide the material to the Department for inclusion on the Postsecondary Completion Web site. The Department will not provide any compensation for material submitted in response to this RFI.

Request for Meta Data Tags

The Secretary anticipates a significant number of responses to this RFI. To maximize the utility of the information we can make available on the Postsecondary Completion Web site, and to make it easier for interested parties to search this information, the Department will include specific words or phrases—also known as “keywords” or meta data “tags”—in the database used to support the Web site. Therefore, the Secretary strongly encourages respondents to this RFI to use keywords or tags to identify components of the strategies described in their responses. The keywords or tags identified should be linked to, and accurately reflect substantial components of, the strategies, practices, programs, or other activities described in the submission. To simplify searches of the database created by the responses to this RFI, the Secretary provides in Appendix A of this RFI a list of standard keywords and tags that would be useful for the Postsecondary Completion Web site. The Secretary strongly encourages that respondents select—to the greatest extent possible—from among these standard keywords and tags when identifying tags for their submission. In the event that none of the words or phrases in Appendix A is sufficiently precise for the promising and practical strategy that is the subject of the response, respondents may substitute other keywords or tags of their own choosing. The Secretary strongly encourages respondents to provide no more than eight keywords or tags for each strategy and limit each tag to no more than three words per tag and 28 characters per word. By limiting keywords and tags in this manner, the Secretary can most efficiently index the database and enable effective searches of all information obtained through this RFI.

Accessible Format: Individuals with disabilities can obtain this document in an accessible format (e.g., braille, large print, audiotape, or compact disc) on request to the program contact person listed under FOR FURTHER INFORMATION CONTACT.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 20 U.S.C. 3204(4).

Dated: January 25, 2012.
Martha Kanter,
Under Secretary of Education.

Appendix A: Standard Keywords and Tags

• Accelerated Learning

• Achievement Gap Closure

• Adult Education

• Affordability

• Assessment Technology

• Badges

• Basic Skills

• Blended Learning

• Block Scheduling

• Career Pathways

• Certificate Attainment

• Civic/Community Engagement

• Civic Learning

• Cognitive Tutors

• Community of Practice

• Competency-Based Learning

• Contextualized Learning

• Cost Savings

• Data Collection/Use

• Degree Attainment

• Developmental/Remedial Education

• Digital Materials

• Dual Degrees

• Earn and Learn

• Efficiency

• Employer Partnership

• Course Articulation

• Student Services

• Game Design

• Improving Achievement

• Industry-Driven Competencies

• Industry-Recognized Credentials

• Job Placement

• Learning Assessment

• Learning Communities

• Mentoring

• Mobile Devices

• Modular Curriculum

• Momentum Points

• Non-Traditional Age Students

• On-the-Job Training

• Online Teaching/Learning

• Open Educational Resources

• Paid Internships

• Part-Time Students

• Pay-for-Performance

• Persistence

• Personalized Instruction

• Productivity

• Real-Time Online Interactions

• Registered Apprenticeships

• Retention

• SCORM

• Self-Paced Learning

• Simulations

• Skill Assessments

• Stackable Credentials

• STEM

• Technology-Enabled Learning

• Time to Degree

• Transfer and Articulation

• Tuition Reduction

• Underrepresented Students

• Virtual Environments

• Web-Based Learning

Note 1: SCORM stands for Sharable Content Object Reference Model.

Note 2: STEM stands for Science, Technology, Engineering, and Mathematics.

Note 3: In the event that none of the keywords or tags listed in this appendix is a sufficiently precise descriptor, submitters should include alternate keyword or tags of their own choosing, not to exceed three words per tag, with a maximum of 28 characters for each keyword or tag. See the discussion elsewhere in this RFI under the heading “Request for Meta Data Tags” for more guidance on the use of keywords and tags.

[FR Doc. 2012-1963 Filed 1-27-12; 8:45 am]

BILLING CODE 4000-01-P